DEPARTMENT OF TRANSPORTATION

Federal Aviation Administration

14 CFR Part 39

[Docket No. FAA-2015-1990; Directorate Identifier 2015-NM-027-AD]

RIN 2120-AA64

Airworthiness Directives; The Boeing Company Airplanes

AGENCY: Federal Aviation Administration (FAA), DOT.

ACTION: Notice of proposed rulemaking (NPRM).

SUMMARY: We propose to adopt a new airworthiness directive (AD) for certain The Boeing Company Model 737-400 series airplanes, as modified by a certain supplemental type certificate. This proposed AD was prompted by the discovery of a design drawing error regarding placards that identified incorrect squibs and pressure switches for certain fire extinguisher bottles. This proposed AD would require a detailed inspection of certain cargo placards to determine if they are the correct placards and in the correct location, a detailed inspection of the harnesses to verify that they are marked and installed correctly, and corrective action if necessary. We are proposing this AD to detect and correct incorrectly installed harnesses for the cargo fire suppression system bottles, which could result in an incorrect activation sequence of the bottles, the inability to suppress a cargo fire quickly, and a possible uncontrollable fire.

DATES: We must receive comments on this proposed AD by August 17, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Advanced Aircraft Extinguishers, 1052 SW Luttrell, Blue Springs, MO 64015; telephone: 816-228-3322; Internet www.aae-ltd.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-1990; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Paul DeVore, Aerospace Engineer, Systems and Propulsion Branch, ACE-116W, FAA, Wichita ACO, 1801 Airport Road, Room 100, Mid-Continent Airport, Wichita, KS 67209; phone: 316-946-4142; fax: 316-946-4107; email: paul.devore@faa.gov.

SUPPLEMENTARY INFORMATION:

Comments Invited

We invite you to send any written relevant data, views, or arguments about this proposal. Send your comments to an address listed under the ADDRESSES section. Include “Docket No. FAA-2015-1990; Directorate Identifier 2015-NM-027-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received a report of a design drawing error regarding the placement of placards that identify the squibs and pressure switches for halon fire extinguisher bottles Number 1 and Number 2. Electrical harnesses for the cargo fire suppression system bottles may consequently be reversed, which would cause an incorrect activation sequence of the bottles, i.e., the initial high-rate “knockdown” agent discharge will not be released until after a 5-minute time delay rather than immediately as intended. This condition, if not corrected, could result in an incorrect activation sequence of the bottles, the inability to suppress a cargo fire quickly, and a possible uncontrollable fire.

Related Service Information Under 1 CFR Part 51

We reviewed Advanced Aircraft Extinguishers Service Bulletin TFA10-26-0020, Revision IR, dated January 12, 2015. The service information describes procedures for a detailed inspection of Advanced Aircraft Extinguishers (AAE) cargo fire protection system (FPS) placards to determine if they are the correct placards and in the correct location, and a detailed inspection of the harnesses to verify that they are marked and installed correctly. The service information also describes corrective actions such as removing the existing AAE cargo FPS placards, destroying/discarding them, and installing AAE-provided cargo FPS placards on the mounting plate. This service information is reasonably available because the interested parties have access to it through their normal course of business or by the means identified in the ADDRESSES section of this NPRM.

Clarification of Service Information Procedures

Step C.(3) of the “SERVICE BULLETIN INSTRUCTIONS” of Advanced Aircraft Extinguishers Service Bulletin TFA10-26-0020, Revision IR, dated January 12, 2015, does not clearly state the corrective action for the inspection of the harnesses. Therefore, paragraph (h) of this proposed AD specifies the steps in the service information that would be required if any harness is not marked correctly or not installed correctly.

FAA's Determination

We are proposing this AD because we evaluated all the relevant information and determined the unsafe condition described previously is likely to exist or develop in other products of the same type design.

Proposed AD Requirements

This proposed AD would require accomplishing the actions specified in the service information described previously, except as discussed under “Differences Between this Proposed AD and the Service Information.”

Differences Between This Proposed AD and the Service Information

While Advanced Aircraft Extinguishers Service Bulletin TFA10-26-0020, Revision IR, dated January 12, 2015, specifies a compliance time of 30 days, this proposed AD would require a compliance time of 6 months. In developing an appropriate compliance time for this AD, we considered the degree of urgency associated with the subject unsafe condition, the average utilization of the affected fleet, and the time necessary to perform the inspection. In light of all of these factors, we find that 6 months represents an appropriate interval of time for affected airplanes to continue to operate without compromising safety. This difference has been coordinated with Boeing and AAE.

The “EFFECTIVITY” section of Advanced Aircraft Extinguishers Service Bulletin TFA10-26-0020, Revision IR, dated January 12, 2015, lists serial number (S/N) 24132 in the “Purchased for Installation on Aircraft Serial Number” column. This is a typographical error in the service information. The Applicability section of this proposed AD correctly identifies S/N 24231.

Explanation of “RC” Steps in Service Information

The FAA worked in conjunction with industry, under the Airworthiness Directive Implementation Aviation Rulemaking Committee (ARC), to enhance the AD system. One enhancement was a new process for annotating which steps in the service information are required for compliance with an AD. Differentiating these steps from other tasks in the service information is expected to improve an owner's/operator's understanding of crucial AD requirements and help provide consistent judgment in AD compliance. The steps identified as RC (required for compliance) in any service information identified previously have a direct effect on detecting, preventing, resolving, or eliminating an identified unsafe condition.

For service information that contains steps that are labeled as Required for Compliance (RC), the following provisions apply: (1) The steps labeled as RC, including substeps under an RC step and any figures identified in an RC step, must be done to comply with the AD, and an AMOC is required for any deviations to RC steps, including substeps and identified figures; and (2) steps not labeled as RC may be deviated from using accepted methods in accordance with the operator's maintenance or inspection program without obtaining approval of an AMOC, provided the RC steps, including substeps and identified figures, can still be done as specified, and the airplane can be put back in an airworthy condition.

Costs of Compliance

We estimate that this proposed AD affects 3 airplanes of U.S. registry.

We estimate the following costs to comply with this proposed AD:

Estimated Costs
Action | Labor cost | Parts cost | Cost per product | Cost on U.S. operators
Detailed inspection | 2 work-hours × $85 per hour = $170 | N/A | $170 | $510

We estimate the following costs to do any necessary corrective actions that would be required based on the results of the proposed inspection. We have no way of determining the number of aircraft that might need these corrective actions:

On-Condition Costs
Action | Labor cost | Parts cost | Cost per product
Corrective actions | 2 work-hours × $85 per hour = $170 | $900 | $1,070

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2015-1990; Directorate Identifier 2015-NM-027-AD.

(a) Comments Due Date

We must receive comments by August 17, 2015.

(b) Affected ADs

None.

(c) Applicability

This AD applies to The Boeing Company Model 737-400 series airplanes, certificated in any category, having serial numbers 23865, 24231, 24706, 24474, 25417, 27003, 27149, 25375, 26281, 28661, and 28881, as modified by Supplemental Type Certificate ST01114WI (http://rgl.faa.gov/Regulatory_and_Guidance_Library/rgstc.nsf/0/f9490633c04cbc8286257301006ed621/$FILE/ST01114WI.pdf).

(d) Subject

Air Transport Association (ATA) of America Code 26, Fire Protection.

(e) Unsafe Condition

This AD was prompted by the discovery of a design drawing error regarding placards that identified incorrect squibs and pressure switches for certain fire extinguisher bottles. We are issuing this AD to detect and correct incorrectly installed harnesses for the cargo fire suppression system bottles, which could result in an incorrect activation sequence of the bottles, the inability to suppress a cargo fire quickly, and a possible uncontrollable fire.

(f) Compliance

Comply with this AD within the compliance times specified, unless already done.

(g) Placard Inspection

Within 6 months after effective date of this AD, do a detailed inspection of Advanced Aircraft Extinguishers cargo fire protection system (FPS) placards to determine if they are the correct placards and in the correct location, and do all applicable corrective actions, in accordance with the “SERVICE BULLETIN INSTRUCTIONS” of Advanced Aircraft Extinguishers Service Bulletin TFA10-26-0020, Revision IR, dated January 12, 2015. Do all applicable corrective actions before further flight.

(h) Harness Inspection

Within 6 months after the effective date of this AD, do a detailed inspection of the harnesses to verify that they are correctly marked and installed, in accordance with the “SERVICE BULLETIN INSTRUCTIONS” of Advanced Aircraft Extinguishers Service Bulletin TFA10-26-0020, Revision IR, dated January 12, 2015. If any harness is not marked or installed correctly, before further flight, do steps C.(5) through C.(11) specified in and in accordance with the “SERVICE BULLETIN INSTRUCTIONS” of Advanced Aircraft Extinguishers Service Bulletin TFA10-26-0020, Revision IR, dated January 12, 2015, except as required by paragraph (i) of this AD.

(i) Exception to the Service Information Specification

Where Advanced Aircraft Extinguishers Service Bulletin TFA10-26-0020, Revision IR, dated January 12, 2015, specifies contacting the manufacturer for appropriate action: Before further flight, repair in accordance with a method approved by the Manager, Wichita Aircraft Certification Office (ACO), FAA.

(j) Special Flight Permit

Special flight permits may be issued in accordance with sections 21.197 and 21.199 of the Federal Aviation Regulations (14 CFR 21.197 and 21.199) to operate the airplane, provided the airplane does not carry cargo in the lower cargo bay.

(k) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l)(1) of this AD.

(2) Before using any approved AMOC, notify your appropriate principal inspector, or lacking a principal inspector, the manager of the local flight standards district office/certificate holding district office.

(3) Except as required by paragraph (i) of this AD: For service information that contains steps that are labeled as Required for Compliance (RC), the provisions of paragraphs (k)(3)(i) and (k)(3)(ii) apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(l) Related Information

(1) For more information about this AD, contact Paul C. DeVore, Aerospace Engineer, Systems and Propulsion Branch, ACE-116W, FAA, Wichita ACO, 1801 Airport Road, Room 100, Mid-Continent Airport, Wichita, KS 67209; phone: 316-946-4142; fax: 316-946-4107; email: paul.devore@faa.gov.

(2) For service information identified in this AD, contact Advanced Aircraft Extinguishers, 1052 SW Luttrell, Blue Springs, MO 64015; telephone: 816-228-3322; Internet www.aae-ltd.com. You may view this referenced service information at the FAA, Transport Airplane Directorate, 1601 Lind Avenue SW., Renton, WA. For information on the availability of this material at the FAA, call 425-227-1221.

Issued in Renton, Washington, on June 24, 2015.
Dionne Palermo,
Acting Manager, Transport Airplane Directorate, Aircraft Certification Service.

[FR Doc. 2015-16155 Filed 7-1-15; 8:45 am]

BILLING CODE 4910-13-P